DEPARTMENT OF HOMELAND SECURITY

Bureau of Customs and Border Protection

Public Meeting of the Airport and Seaport User Fee Advisory Committee

AGENCY: Customs and Border Protection, Department of Homeland Security.

ACTION: Notice of meeting.

SUMMARY: This document announces the date, time, and location for a public meeting of the Airport and Seaport User Fee Federal Advisory Committee and the agenda for consideration by the Committee. It also invites submission of written statements. In order to be considered for discussion at the meeting, a statement must be received by the Committee at least ten days prior to the date of the meeting.

DATES: The 28th Customs and Border Protection Airport and Seaport User Fee Federal Advisory Committee meeting will be held on Wednesday, October 27, 2004, at 12 p.m.-4 p.m., in the Customs International Briefing Conference Room (B 1.5-10), Ronald Reagan Building, 1300 Pennsylvania Avenue, NW., Washington, DC 20229.

FOR FURTHER INFORMATION CONTACT: Roberto Williams, Office of Finance, Room 4.5A, 1300 Pennsylvania Avenue, Washington, DC 20229, telephone: (202) 344-1101; email: Roberto.M.Williams@dhs.gov.

SUPPLEMENTARY INFORMATION:

Background

The Airport and Seaport User Fee Advisory Committee was created under the authority of 8 U.S.C. 1356(k) (section 286(k) of the Immigration and Nationality Act, as amended; see also the Federal Advisory Committee Act (5 U.S.C.A. App. section 2)) to meet periodically and advise the Attorney General on issues related to the performance of certain inspectional services performed by the Immigration and Naturalization Service (INS). Since the legacy INS inspection component has been merged with the U.S. Customs Service (along with other agencies) to form the Bureau of Customs and Border Protection (CBP), effective on March 1, 2003, the function of the Committee is now under CBP and the Committee now advises the Secretary of Homeland Security.

The Committee consists of representatives of the airline and other transportation industries that are subject to fees and charges authorized by law or proposed by the governing agency (either INS prior to March 1, 2003, or CBP afterward). The responsibility of this standing Advisory Committee is to advise on issues related to the performance of Airport and Seaport agriculture, customs, and immigration inspection services. This advice should include, but need not be limited to, the time period in which such services should be performed, the proper number and deployment of inspection officers, the level of fees, and the appropriateness of any proposed fee. These responsibilities are related to the assessment of an immigration user fee pursuant to 8 U.S.C. 1356(d), the assessment of a customs inspection user fee pursuant to 19 U.S.C. 58c(a)(5), and the assessment of an agriculture inspection user fee pursuant to 21 U.S.C 136a.

Public Meeting

In accordance with 8 U.S.C. 1356(k), CBP announces that the 28th meeting of the Airport and Seaport User Fee Advisory Committee will take place at 12 p.m. on October 27, 2004, at the Customs International Briefing Conference Room (B 1.5-10), Ronald Reagan Building, 1300 Pennsylvania Avenue, NW., Washington, DC 20229. The purpose of this meeting is to perform the Committee's advisory responsibilities pursuant to the Federal Advisory Committee Act (Pub. L. 92-463, 5 U.S.C., App.). The meeting is open to the public and advance notice of attendance is requested to ensure adequate seating. Persons planning to attend should notify the contact person identified previously in this notice at least ten days prior to the meeting, in order to be included on the list of those cleared for admittance. Members of the public may submit written statements at any time before or after the meeting to the contact person for consideration by this Advisory Committee. Only written statements received by the contact person at least ten days prior to the meeting will be considered for discussion at the meeting. A transcript of the meeting will be made available online for public viewing about two weeks following the meeting.

Meeting Agenda

The Advisory Committee focuses its attention on those areas of most concern and benefit to the travel industry, the traveling public, and the Federal Government. At this meeting, the Committee is expected to pursue the following agenda (which may be modified prior to the meeting):

1. Introduction of the Committee members;

2. Discussion of activities since last meeting;

3. Discussion of administrative issues;

4. Discussion of future traffic trends;

5. Discussion of specific concerns and questions of Committee members;

6. Discussion of relevant written statements submitted in advance by members of the public;

7. Scheduling of next meeting.

Dated: October 7, 2004.
Richard L. Balaban,
Assistant Commissioner, Office of Finance.

[FR Doc. 04-22911 Filed 10-12-04; 8:45 am]

BILLING CODE 4820-02-P